DEPARTMENT OF TRANSPORTATION

Federal Aviation Administration

14 CFR Part 71

[Docket No. FAA-2023-2269; Airspace Docket No. 23-ASO-4]

RIN 2120-AA66

Amendment of Jet Routes and Domestic Very High Frequency Omnidirectional Range (VOR) Federal Airways and Revocation of VOR Federal Airway; Eastern United States; Correction

AGENCY: Federal Aviation Administration (FAA), DOT.

ACTION: Final rule; correction.

SUMMARY: The FAA is correcting a final rule published in the Federal Register on September 3, 2025. The final rule amends Jet Routes J-6, J-14, J-66, J-101, J-131, and J-180; amends Very High Frequency Omnidirectional Range (VOR) Federal Airways V-54, V-74, V-124, V-305, V-532, and V-573; and revokes VOR Federal Airway V-534 in the eastern United States. This action corrects a typographical error in the route description of VOR Federal Airway V-124.

DATES: The effective date of the final rule published in the Federal Register on September 3, 2025, remains 0901 UTC, November 27, 2025. The Director of the Federal Register approves this incorporation by reference action under 1 CFR part 51, subject to the annual revision of FAA Order 7400.11 and publication of conforming amendments.

ADDRESSES: FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

History

The FAA published a final rule in the Federal Register (90 FR 42528; September 3, 2025), amending Jet Routes J-6, J-14, J-66, J-101, J-131, and J-180; amending VOR Federal Airways V-54, V-74, V-124, V-305, V-532, and V-573; and revoking VOR Federal Airway V-534 in the eastern United States. On September 22, 2025, the final rule was included in an unrelated administrative correction action published in the Federal Register (90 FR 45324), updating the effective version of FAA Order JO 7400.11 for purposes of Incorporation by Reference.

Subsequent to publication of the final rule and unrelated correction, the FAA determined that in the route description of VOR Federal Airway V-124, the “T” was inadvertently omitted from the state abbreviation “TX” for the Bonham, TX (BYP), VOR/Tactical Air Navigation (VORTAC). In the Supplementary Information section, within the subsection entitled “The Rule”, which describes the action, the Bonham VORTAC state abbreviation was correctly listed as “TX”. This action corrects this error by amending the route description of VOR Federal Airway V-124 to indicate “From Bonham, TX;” as intended. Accordingly, the following corrections are effective November 27, 2025.

Correction to Final Rule

In FR Doc. 2025-16861, 90 FR 42528, September 3, 2025,

On page 42531, in the second column, in the line directly below the bolded text “V-124 [Amended]”, replace the text “From Bonham, T;” with “From Bonham, TX;”.

* * * * *

Issued in Washington, DC, on November 13, 2025.
Alex W. Nelson,
Acting Manager, Rules and Regulations Group.

[FR Doc. 2025-19999 Filed 11-14-25; 8:45 am]

BILLING CODE 4910-13-P